DEPARTMENT OF COMMERCE

National Oceanic and Atmospheric Administration

[I.D. 112206A]

Schedules for Atlantic Shark Identification Workshops and Protected Species Safe Handling, Release, and Identification Workshops

AGENCY: National Marine Fisheries Service (NMFS), National Oceanic and Atmospheric Administration (NOAA), Commerce.

ACTION: Notice.

SUMMARY: NMFS announces Atlantic Shark Identification Workshops and Protected Species Safe Handling, Release, and Identification Workshops to be held in January, February, and March of 2007. Additional workshops will be held throughout 2007 and will be scheduled at a later date.

The Atlantic Shark Identification Workshops are mandatory for all federally permitted Atlantic shark dealers. As of December 31, 2007, an Atlantic shark dealer may not receive, purchase, trade, or barter for Atlantic shark unless a valid Atlantic Shark Identification Workshop certificate is on the premises of each business listed under the shark dealer permit. Additionally, after December 31, 2007, Atlantic shark dealers may not renew a Federal shark dealer permit unless a valid Atlantic Shark Identification Workshop certificate has been submitted with the permit renewal application. Atlantic Shark Identification Workshops will be held throughout 2007, at no charge to the participant.

The Protected Species Safe Handling, Release, and Identification Workshops are mandatory for vessel owners and operators who use bottom longline, pelagic longline, or gillnet gear, and have also been issued shark or swordfish limited access permits. Vessel owners and operators whose permits expire in January, February, or March 2007 must attend one of these free workshops in order to renew their permit.

DATES: The Atlantic Shark Identification Workshops will be held on January 26, February 22, and March 16, 2007.

The Protected Species Safe Handling, Release, and Identification Workshops will be held on January 8, 12, and 24, February 1, 22, and 27, and on March 7, 15, and 21, 2007. See SUPPLEMENTARY INFORMATION for further details.

ADDRESSES: The Atlantic Shark Identification Workshops will be held in Madeira Beach, FL; Dania Beach, FL; and Manahawkin, NJ.

The Protected Species Safe Handling, Release, and Identification Workshops will be held in Coconut Grove, FL; Charleston, SC; Providence, RI; Ft. Pierce, FL; Houston, TX; Panama City, FL; Dedham, MA; St. Petersburg, FL; and Ronkonkoma, NY. See SUPPLEMENTARY INFORMATION for further details on workshop locations.

FOR FURTHER INFORMATION CONTACT: For further information regarding workshop requirements, contact Greg Fairclough by phone:(727) 824-5399, or by fax: (727) 824-5398.

SUPPLEMENTARY INFORMATION: On October 2, 2006, NMFS published a final rule (71 FR 58057) that, among other things, requires certain dealers and fishermen to attend mandatory workshops prior to renewing their permits.

Shark Identification Workshops for Dealers

Effective December 31, 2007, an Atlantic shark dealer may not receive, purchase, trade, or barter for Atlantic shark unless a valid Atlantic Shark Identification workshop certificate is on the premises of each business listed under the shark dealer permit. Dealers who attend and successfully complete a workshop will be issued a certificate for each place of business that is permitted to receive sharks. Dealers may send a proxy to a Atlantic Shark Identification Workshop, however, if a dealer opts to send a proxy, the dealer must designate a proxy for each place of business covered by the dealer's permit. Only one certificate will be issued to each proxy. A proxy must be a person who: is currently employed by a place of business listed on the dealer's permit; is a primary participant in the identification, weighing, and/or first receipt of fish as they are offloaded from a vessel; and fills out dealer reports. Additionally, after December 31, 2007, an Atlantic shark dealer may not renew a Federal shark dealer permit unless a valid Atlantic Shark Identification Workshop certificate has been submitted with the permit renewal application.

Protected Species Safe Handling, Release, and Identification Workshops

Effective January 1, 2007, shark limited access and swordfish limited access permit holders must submit a copy of their Protected Species Safe Handling, Release, and Identification Workshop certificate in order to renew either permit. As such, vessel owners whose permits expire in early 2007 must attend one of the free workshops offered in January, February, or March 2007. New shark and swordfish limited access permit applicants must attend a Protected Species Safe Handling, Release, and Identification Workshop and must submit a copy of their workshop certificate before such permits will be issued.

In addition to owners, all longline and gillnet vessel operators fishing with a limited access swordfish or limited access shark permit are required to attend the Protected Species Safe Handling, Release, and Identification Workshops. Vessels that have been issued a limited access swordfish or limited access shark permit may not fish unless both the vessel owner and operator have valid workshop certificates. Vessel operators must possess on board the vessel valid workshop certificates for both the vessel owner and the operator at all times.

Workshop Dates, Times, and Locations

Additional workshops will be scheduled throughout the year. Fishermen should try to go to workshops that are close to the expiration date of their permit.

Atlantic Shark Identification Workshops

1. January 26, 2007 from 9 a.m. - 3 p.m. Madeira Beach Town Hall, 300 Municipal Drive, Madeira Beach, FL 33708.

2. February 22, 2007 from 9 a.m. - 3 p.m. Nova Southeastern University Oceanographic Center, 8000 North Ocean Drive, Dania Beach, FL 33004. The Park entrance fee will be waived for participants attending the workshop at the university.

3. March 16, 2007 from 9 a.m. - 3 p.m. Ocean County Library (Stafford Branch), 129 North Main Street, Manahawkin, NJ 08050.

Protected Species Safe Handling, Release, and Identification Workshops

1. January 8, 2007 from 9 a.m. - 5 p.m. Hampton Inn Coconut Grove, 2800 SW 28th Terrace, Coconut Grove, FL 33133.

2. January 12, 2007 from 9 a.m. - 5 p.m. Town & Country Inn & Conference Center, 2008 Savannah Highway, Charleston, SC 29407.

3. January 24, 2007 from 9 a.m. - 5 p.m. Hotel Providence, 311 Westminster Street, Providence, RI 02903.

4. February 1, 2007 from 9 a.m. - 5 p.m. Hampton Inn & Suites, 1985 Reynolds Drive, Ft. Pierce, FL 34945.

5. February 22, 2007 from 9 a.m. - 5 p.m. Hampton Inn, 8620 Airport Blvd., Houston, TX 77061.

6. February 27, 2007 from 9 a.m. - 5 p.m. Hilton Garden Inn, 1101 U.S. Highway 231, Panama City, FL 32405.

7. March 7, 2007 from 9 a.m. - 5 p.m. Holiday Inn, Dedham, 55 Ariadne Road, Dedham, MA 02026.

8. March 15, 2007 from 9 a.m. - 5 p.m. Hilton, St. Petersburg Bayfront, 333 First Street South, St. Petersburg, FL 33701.

9. March 21, 2007 from 9 a.m. - 5 p.m. Hilton Garden Inn, Islip MacArthur Airport, 3485 Veterans Memorial Highway, Ronkonkoma, NY 11779.

Registration

The workshop schedules, registration information, and a list of frequently asked questions regarding these workshops are posted on the internet at: http://www.nmfs.noaa.gov/sfa/hms/workshops/.

To register for a scheduled Atlantic Shark Identification Workshop, please contact Eric Sander by email at esander@peoplepc.com or by phone at (386) 852-8588.

To register for a scheduled Protected Species Safe Handling, Release, and Identification Workshop, please contact Aquatic Release Conservation ((877) 411-4272), 1870 Mason Ave., Daytona Beach, FL 32117.

Grandfathered Permit Holders

Participants in the industry-sponsored workshops on safe handling and release of sea turtles that were held in Orlando, FL (April 8, 2005) and in New Orleans, LA (June 27, 2005) will be issued a workshop certificate in December 2006 that will be valid for three years. Grandfathered permit holders must include a copy of this certificate when renewing limited access shark and limited access swordfish permits each year. Failure to provide a valid workshop certificate may result in a permit denial.

Registration Materials

To ensure that workshop certificates are linked to the correct permits, participants will need to bring the following items with them to the workshop:

Atlantic Shark Identification Workshop

Atlantic shark dealer permit holders must bring proof that the individual is an agent of the business (such as articles of incorporation), a copy of the applicable permit, and proof of identification.

Atlantic shark dealer proxies must bring documentation from the shark dealer acknowledging that the proxy is attending the workshop on behalf of the Atlantic shark dealer, a copy of the appropriate permit, and proof of identification.

Protected Species Safe Handling, Release, and Identification Workshop

Individual vessel owners must bring a copy of the appropriate permit(s), a copy of the vessel registration or documentation, and proof of identification.

Representatives of a business owned or co-owned vessel must bring proof that the individual is an agent of the business (such as articles of incorporation), a copy of the applicable permit(s), and proof of identification.

Vessel operators must bring proof of identification.

Workshop Objectives

The Atlantic Shark Identification Workshops are designed to reduce the number of unknown and improperly identified sharks reported in the dealer reporting form and increase the accuracy of species-specific dealer-reported information. Reducing the number of unknown and improperly identified sharks will improve quota monitoring and the data used in stock assessments. These workshops will train shark dealer permit holders or their proxies to properly identify Atlantic shark carcasses.

The Protected Species Safe Handling, Release, and Identification Workshops are designed to teach longline and gillnet fishermen the required techniques for the safe handling and release of entangled and/or hooked protected species, such as sea turtles, marine mammals, and smalltooth sawfish. Identification of protected species will also be taught at these workshops in an effort to improve reporting. Additionally, individuals attending these workshops will gain a better understanding of the requirements for participating in these fisheries. The overall goal for these workshops is to provide participants the skills needed to reduce the mortality of protected species, which may prevent additional regulations on these fisheries in the future.

Authority: 16 U.S.C. 971 et seq. and 1801 et seq.

Dated: December 12, 2006.
Alan D. Risenhoover
Director, Office of Sustainable Fisheries, National Marine Fisheries Service.

[FR Doc. 06-9755 Filed 12-13-06; 3:25 pm]

BILLING CODE 3510-22-S